DEPARTMENT OF COMMERCE

National Oceanic and Atmospheric Administration

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: Alaska Community Quota Entity (CQE) Program.

OMB Control Number: 0648-0665.

Form Number(s): None.

Type of Request: Regular. (Extension of currently approved collection.)

Number of Respondents: 36.

Average Hours per Response: 200 hours for Application for a Non-profit Corporation to be Designated as a CQE; 2 hours each for Application to transfer Quota Share Individual Fishing Quota (IFQ) to or from a CQE, Application for CQE to Transfer IFQ to an Eligible Community Resident or Non-resident, and Application for Transfer between IFQ and Guided Angler Fish by a CQE; 20 hours for Application for a CQE to Receive a Nontrawl Groundfish LLP License; 40 hours for CQE Annual Report; 1 hour each for Application for Community Charter Halibut Permit and CQE License Limitation Program (LLP) Authorization Letter.

Burden Hours: 1,737 hours.

Needs and Uses: This request is for extension of a currently approved information collection that contains applications, permits, and reports necessary to manage the CQE Program. The CQE Program allocates to eligible communities in Alaska a portion of the harvest quotas for groundfish, halibut, crab, and prohibited species. The allocations provide these communities the means for starting or supporting commercial fisheries activities that will result in an ongoing, regionally based, fisheries-related economy.

This collection contains applications used by a nonprofit corporation to become a CQE; by CQEs to receive nontrawl groundfish LLP licenses and CHP permits; by CQEs to transfer or receive IFQ QS; by CQEs to transfer IFQ to an eligible community resident or non-resident; and by CQEs to transfer between commercial halibut IFQ and halibut guided angler fish. In addition, this collection contains two reporting requirements: An annual report and an authorization letter. Annually each CQE must submit a report describing its business operations and fishing activities for each eligible community it represents. CQEs requesting LLP groundfish licenses must annually submit an authorization letter that assigns each community LLP license to a user and vessel.

The National Marine Fisheries Service uses this information collection to evaluate the ability of a specific CQE to represent an eligible community and to augment fisheries management. The information collected is used to establish eligibility of the CQEs; review each CQE's business operations and fishing activity; monitor participation of the eligible communities in the CQE Program and associated limited access programs; and gather information on distribution and use among these communities of LLP groundfish licenses, charter halibut permits, and halibut and sablefish QS and IFQ.

Affected Public: Not-for-profit institutions; Individuals or households.

Frequency: Annually; on occasion.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Departmental Lead PRA Officer, Office of the Chief Information Officer, Commerce Department.

[FR Doc. 2019-05921 Filed 3-27-19; 8:45 am]

BILLING CODE 3510-22-P